NUCLEAR REGULATORY COMMISSION

[NRC-2010-0186]

Notice of Availability of the Models for Plant-Specific Adoption of Technical Specifications Task Force Traveler TSTF-501, Revision 1, “Relocate Stored Fuel Oil and Lube Oil Volume Values to Licensee Control”

AGENCY: Nuclear Regulatory Commission (NRC).

ACTION: Notice of availability.

SUMMARY: As part of the consolidated line item improvement process (CLIIP), the NRC is announcing the availability of the enclosed model application (with model no significant hazards consideration determination) and model safety evaluation (SE) for the plant-specific adoption of Technical Specifications Task Force (TSTF) Traveler TSTF-501, Revision 1, “Relocate Stored Fuel Oil and Lube Oil Volume Values to Licensee Control.” TSTF-501, Revision 1, is available in the Agencywide Documents Access and Management System (ADAMS) under Accession Number ML090510686. The proposed changes would revise Technical Specifications (TS) 3.8.3, “Diesel Fuel Oil, Lube Oil, and Starting Air,” by relocating the current stored diesel fuel oil and lube oil numerical volume requirements from the TS to the TS Bases so that it may be modified under licensee control. This CLIIP model SE will facilitate expedited approval of plant-specific adoption of TSTF-501, Revision 1.

Documents: You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

The model application (with model no significant hazards consideration determination) and model SE for the plant-specific adoption of TSTF-501, Revision 1, are available electronically under ADAMS Package Accession Number ML100850069. The NRC staff disposition of comments received to the Notice of Opportunity for Comment announced in the Federal Register on August 20, 2009 (74 FR 42131-42138), is available electronically under ADAMS Accession Number ML100920563.

FOR FURTHER INFORMATION CONTACT: Barry W. Miller, Senior Project Manager, Licensing Processes Branch, Mail Stop: O-12 D1, Division of Policy and Rulemaking, Office of Nuclear Reactor Regulation, U.S. Nuclear Regulatory Commission, Washington, DC, 20555-0001; telephone 301-415-4117 or e-mail at Barry.Miller@nrc.gov.

SUPPLEMENTARY INFORMATION: TSTF-501, Revision 1, is applicable to all nuclear power reactors. Licensees opting to apply for this TS change are responsible for reviewing the NRC staff's model SE, referencing the applicable technical justifications, and providing any necessary plant-specific information. The NRC will process each amendment application responding to this notice of availability according to applicable NRC rules and procedures.

The model does not prevent licensees from requesting an alternate approach or proposing changes other than those proposed in TSTF-501, Revision 1. However, significant deviations from the approach recommended in this notice or the inclusion of additional changes to the license require additional NRC staff review and would not be reviewed as a part of the CLIIP. This may increase the time and resources needed for the review or result in NRC staff rejection of the license amendment request (LAR). Licensees desiring significant deviations or additional changes should instead submit an LAR that does not claim to adopt TSTF-501, Revision 1.

The NRC staff requests that each licensee applying for the changes proposed in TSTF-501, Revision 1, include their current licensing basis for fuel and lube oil storage requirements in their LAR.

Dated at Rockville, Maryland, this 14th day of May 2010.
For the Nuclear Regulatory Commission.
Michael D. McCoppin,
Acting Chief, Licensing Processes Branch, Division of Policy and Rulemaking, Office of Nuclear Reactor Regulation.

[FR Doc. 2010-12716 Filed 5-25-10; 8:45 am]

BILLING CODE 7590-01-P